DEPARTMENT OF ENERGY

Federal Energy Regulatory Commission

Combined Notice of Filings #1

Take notice that the Commission received the following electric corporate filings:

Docket Numbers: EC11-83-000; EC11-83-001.

Applicants: Exelon Corporation, Constellation Energy Group, Inc.

Description: Request for Waiver of Exelon Corporation.

Filed Date: 4/4/12.

Accession Number: 20120404-5225.

Comments Due: 5 p.m. ET 4/18/12.

Take notice that the Commission received the following electric rate filings:

Docket Numbers: ER11-1858-001; ER10-3201-001.

Applicants: Montana Generation, LLC, NorthWestern Corporation

Description: Supplemental Information and Amendment to Triennial Updated Market Power Analysis Filing Letter of NorthWestern Corporation and Montana Generation, LLC.

Filed Date: 3/27/12.

Accession Number: 20120327-5245.

Comments Due: 5 p.m. ET 5/2/12.

Docket Numbers: ER12-1468-000.

Applicants: California Independent System Operator Corporation.

Description: 2012-04-10 CAISO's Transmission Reliability Margin Tariff Amendment to be effective 6/10/2012.

Filed Date: 4/10/12.

Accession Number: 20120410-5127.

Comments Due: 5 p.m. ET 5/1/12.

Docket Numbers: ER12-1469-000.

Applicants: Southwestern Electric Power Company.

Description: 20120410 NTEC Griffin Facilities Agreement to be effective 3/13/2012.

Filed Date: 4/10/12.

Accession Number: 20120410-5137.

Comments Due: 5 p.m. ET 5/1/12.

Docket Numbers: ER12-1470-000.

Applicants: Energia Sierra Juarez U.S., LLC.

Description: Energia Sierra Juarez U.S. LLC FERC Electric Tariff No.1 MBR Tariff to be effective 4/10/2012.

Filed Date: 4/10/12.

Accession Number: 20120410-5145.

Comments Due: 5 p.m. ET 5/1/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 11, 2012.
Nathaniel J. Davis, Sr.,
Deputy Secretary.

[FR Doc. 2012-9386 Filed 4-18-12; 8:45 am]

BILLING CODE 6717-01-P